NUCLEAR REGULATORY COMMISSION

[Docket Nos. 50-237 and 50-249; NRC-2024-0080]

Constellation Energy Generation, LLC; Dresden Nuclear Power Station, Units 2 and 3; Final Environmental Impact Statement

AGENCY: Nuclear Regulatory Commission.

ACTION: Notice; issuance.

SUMMARY: The U.S. Nuclear Regulatory Commission (NRC) has prepared a final environmental impact statement, (EIS) which is a supplement to NUREG-1437 and is issued as NUREG-1437, Supplement 17, Second Renewal, “Generic Environmental Impact Statement for License Renewal of Nuclear Plants, Supplement 17, Second Renewal, Regarding Subsequent License Renewal for Dresden Nuclear Power Station, Units 2 and 3, Final Report.” This EIS evaluates the environmental impacts of proposed subsequent license renewal (SLR) of renewed Facility Operating License Nos. DPR-19 and DPR-25, for an additional 20 years of operation for Dresden Nuclear Power Station, Units 2 and 3 (Dresden). Dresden is located 23 miles (mi) southwest of Joliet, Illinois, and 60 mi southwest of Chicago, Illinois, along the Illinois, Des Plaines, and Kankakee Rivers.

DATES: NUREG-1437, Supplement 17, Second Renewal is available as of September 3, 2025.

ADDRESSES: Please refer to Docket ID NRC-2024-0080 when contacting the NRC about the availability of information regarding this document. You may obtain publicly available information related to this document using any of the following methods:

• Federal Rulemaking Website: Go to https://www.regulations.gov and search for Docket ID NRC-2024-0080. Address questions about Docket IDs in Regulations.gov to Bridget Curran; telephone: 301-415-1003; email: Bridget.Curran@nrc.gov. For technical questions contact the individual(s) listed in the For Further Information Contact section of this document.

• NRC's Agencywide Documents Access and Management System (ADAMS): You may access publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. Final Supplement 17, Second Renewal, to the Generic Environmental Impact Statement (GEIS), NUREG-1437, is available in ADAMS under Accession No. ML25233A275.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

• Public Library: A copy of the Final Supplement 17, Second Renewal, to the GEIS for License Renewal of Nuclear Plants, NUREG-1437, regarding the proposed SLR of renewed Facility Operating License Nos. DPR-19 and DPR-25, for an additional 20 years of operation for Dresden, will be available for public review at the following public library locations: Morris Area Public Library, 604 Liberty St., Morris, IL 60450, and Coal City Library, 85 N Garfield Street, Coal City, IL 60416.

FOR FURTHER INFORMATION CONTACT: Angela Sabet, Office of Nuclear Material Safety and Safeguards, U.S. Nuclear Regulatory Commission, Washington, DC 20555-0001; telephone: 301-415-1162; email: Angela.Sabet@nrc.gov.

SUPPLEMENTARY INFORMATION:

I. Background

In accordance with section 51.118 of title 10 of the Code of Federal Regulations, (10 CFR), “Final environmental impact statement—notice of availability,” the NRC is making available for public inspection NUREG-1437, Supplement 17, Second Renewal, regarding the proposed SLR of Constellation Energy Generation, LLC.; (CEG), renewed Facility Operating License No. DPR-19 and DPR-25 for an additional 20 years of operation for Dresden. A notice of availability of the draft EIS (NUREG-1437, Supplement 17, Draft for Comment) was published in the Federal Register (FR) on May 30, 2025 (90 FR 23079). The U.S. Environmental Protection Agency issued its Notice of Availability on May 30, 2025 (90 FR 23050). The public comment period on the draft EIS ended on July 14, 2025, and the comments received on the draft EIS are addressed in the final EIS (NUREG-1437, Supplement 17, Second Renewal, Final Report).

II. Discussion

The draft EIS (NUREG-1437, Supplement 17, Second Renewal, Draft for Comment) was issued for public comment on May 30, 2025. The final EIS (NUREG-1437, Supplement 17, Second Renewal, Final Report) addresses the comments received on draft EIS. As discussed in Chapter 4 of the final EIS, the NRC staff has determined that the adverse environmental impacts of license renewal for Dresden (i.e., the continued operation of Dresden for a period of 20 years beyond the expiration date of the initial license) are not so great that preserving the option of license renewal for energy-planning decision-makers would be unreasonable. This recommendation is based on: (1) information provided in the environmental report, as supplemented, and other documents submitted by CEG; (2) consultation with Federal, State, Tribal, and local governmental agencies; (3) the NRC staff's independent environmental review; and (4) consideration of public comments received during the scoping process and on the draft EIS (NUREG-1437, Supplement 17, Second Renewal, Draft for Comment).

Dated: September 5, 2025.
For the Nuclear Regulatory Commission.
Jacob Zimmerman,
Acting Director, Division of Rulemaking, Environmental, and Financial Support, Office of Nuclear Material Safety, and Safeguards.

[FR Doc. 2025-17633 Filed 9-11-25; 8:45 am]

BILLING CODE 7590-01-P